DEPARTMENT OF HEALTH AND HUMAN SERVICES

National Institutes of Health

Government-Owned Inventions; Availability for Licensing

AGENCY: National Institutes of Health, Public Health Service, HHS.

ACTION: Notice.

SUMMARY: The inventions listed below are owned by an agency of the U.S. Government and are available for licensing in the U.S. in accordance with 35 U.S.C. 207 to achieve expeditious commercialization of results of federally-funded research and development. Foreign patent applications are filed on selected inventions to extend market coverage for companies and may also be available for licensing.

ADDRESSES: Licensing information and copies of the U.S. patent applications listed below may be obtained by writing to the indicated licensing contact at the Office of Technology Transfer, National Institutes of Health, 6011 Executive Boulevard, Suite 325, Rockville, Maryland 20852-3804; telephone: 301-496-7057; fax: 301-402-0220. A signed Confidential Disclosure Agreement will be required to receive copies of the patent applications.

Novel Fluorinated Dmt-Tic Analogues for Use as PET Radiotracers

Description of Technology: Researchers at the NIH have developed fluorine-18 (¹⁸F) labeled analogues specific for the delta-opioid receptors. These radioligands include analogues of the Dmt-Tic pharmacophore, containing a delta-opioid receptor antagonist that may be useful for imaging opioid receptors expressed in lung malignant tumors or other peripheral tumors that express delta-opioid receptors. This methodology might be readily applicable to Dmt-Tic pharmacophoric ligands that exhibit dual antagonism for delta-/mu-opioid receptors.

Studies by the inventors have shown that injected radioligand failed to cross the blood-brain barrier (BBB) of rats; therefore, these compounds could serve as radiotracers for assessing and locating certain carcinomas that contain high levels of delta-opioid receptors, such as lung, breast and/or colon cancers. Since there is an increasing demand of radioligands for in vivo imaging of peripheral opioid receptors, this technology has the potential of enhancing current practices of PET imaging in oncology.

Available for licensing are compositions and methods of locating delta- and/or mu-opioid receptors located in peripheral cancers, such as in lung, breast, and/or colorectal cancer, using opiate radioligands.

Applications: Non-invasive tool for screening lung, breast, and/or colorectal cancers. Diagnostic tool for use in PET imaging.

Market: For 2007, it was projected that close to 1.5 million Americans would develop cancer.

PET imaging is steadily becoming a technique of choice in oncology so many of these patients will likely undergo scans several times during their treatment to assess the stage of their disease. This is supported by rising sales of FDG, which are expected to reach $933 million by 2012.

Development Status: Early stage.

Inventors: Lawrence H. Lazarus (NIEHS) et al.

Relevant Publication: KA Roth and JD Barchas. Small cell carcinoma cell lines contain opioid peptides and receptors. Cancer 1986 Feb 15;57(4):769-773.

Patent Status: U.S. Provisional Application No. 60/970,143 filed 05 Sep 2007 (HHS Reference No. E-317-2007/0-US-01).

Licensing Status: Available for licensing.

Licensing Contact: Charlene A. Sydnor, PhD.; 301-435-4689; sydnorc@mail.nih.gov.

Collaborative Research Opportunity: The NIEHS Laboratory of Pharmacology, Medicinal Chemistry Group, is seeking statements of capability or interest from parties interested in collaborative research to further develop, evaluate, or commercialize this technology. Please contact Elizabeth Denholm, PhD., Director, NIEHS Office of Technology Transfer, at 919-541-0981 or denholme@mail.nih.gov for more information.

Novel Isoform of KCNH2 for the Treatment of Schizophrenia

Description of Technology: Researchers at the NIH report the discovery and characterization of a novel isoform of the voltage-gated potassium channel KCNH2. This novel isoform is shown to control neurological firing and has implication as a genetic risk factor for schizophrenia. It is highly expressed in the hippocampus of schizophrenic patients and also in normal individuals who carry risk-associated alleles of KCNH2. This novel isoform may be a suitable target for drug development as is it minimally expressed in the heart with the potential to exert less adverse cardiovascular side-effects, which is often a consequence of currently available antipsychotic drugs.

Available for licensing and commercial development are nucleic acids, polypeptides and antibodies specific for this novel isoform, as well as methods of screening for therapeutic agents and predicting susceptibility to schizophrenia.

Applications: Potential new psychotherapeutic agent with less cardiac side-effects. Potential drug screening assay for identifying new psychotherapeutic drugs. Potential diagnostic tool for determining susceptibility of schizophrenia.

Market: Schizophrenia is among the most severe of the mental illnesses and has a lifetime prevalence of approximately 1% worldwide.

More than 2,000,000 Americans have schizophrenia and it accounts for 2.5% of U.S. health care costs and 75% of expenditures for long-term mental health.

Development Status: Early stage.

Inventors: Daniel R. Weinberger et al. (NIMH).

Patent Status: U.S. Provisional Application No. 60/920,220 filed 26 Mar 2007 (HHS Reference No. E-245-2006/0-US-01).

PCT Application No. PCT/US2008/057913 filed 21 Mar 2008 (HHS Reference No. E-245-2006/0-PCT-02).

Licensing Status: Available for licensing.

Licensing Contact: Charlene A. Sydnor, PhD.; 301-435-4689; sydnorc@mail.nih.gov.

Collaborative Research Opportunity: The NIMH Clinical Brain Disorders Branch is seeking statements of capability or interest from parties interested in collaborative research to further develop, evaluate, or commercialize potassium channel isoform associated with schizophrenia. Please contact Suzanne Winfield at 301-402-4324/winfiels@mail.nih.gov for more information.

Dated: June 13, 2008.
Richard U. Rodriguez,
Director, Division of Technology Development and Transfer, Office of Technology Transfer, National Institutes of Health.

[FR Doc. E8-14257 Filed 6-23-08; 8:45 am]

BILLING CODE 4140-01-P